CONSUMER PRODUCT SAFETY COMMISSION

[Docket No. CPSC-2010-0075]

Agency Information Collection Activities; Submission for OMB Review; Comment Request—Safety Standards for Full-Size Baby Cribs and Non-Full Size Baby Cribs

AGENCY: Consumer Product Safety Commission.

ACTION: Notice.

SUMMARY: In accordance with the requirements of the Paperwork Reduction Act (PRA) of 1995 (44 U.S.C. chapter 35), the Consumer Product Safety Commission (Commission or CPSC) announces that the Commission has submitted to the Office of Management and Budget (OMB) a request for extension of approval of a collection of information associated with the CPSC's Safety Standards for Full-Size Baby Cribs and Non-Full-Size Baby Cribs (OMB No. 3041-0147). In the Federal Register of December 24, 2013 (78 FR 77660), the CPSC published a notice to announce the agency's intention to seek extension of approval of the collection of information. One commenter stated that drop-side cribs should not be eliminated because the problem is caused by cheap plastic hardware provided by the manufacturers. That comment is outside the scope of the proposed renewal request, which sought comments on the burden hours associated with recordkeeping requirements in the safety standards. Therefore, by publication of this notice, the Commission announces that CPSC has submitted to the OMB a request for extension of approval of that collection of information, without change.

DATES: Written comments on this request for extension of approval of information collection requirements should be submitted by April 3, 2014.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW., Washington, DC 20503. In addition, written comments that are sent to OMB also should be submitted electronically at http://www.regulations.gov, under Docket No. CPSC-2010-0075.

FOR FURTHER INFORMATION CONTACT: Robert H. Squibb, Consumer Product Safety Commission, 4330 East West Highway, Bethesda, MD 20814; (301) 504-7815, or by email to: rsquibb@cpsc.gov.

SUPPLEMENTARY INFORMATION: CPSC has submitted the following currently approved collection of information to OMB for extension:

Title: Safety Standards for Full-Size Baby Cribs and Non-Full-Size Baby Cribs.

OMB Number: 3041-0147.

Type of Review: Renewal of collection.

Frequency of Response: On occasion.

Affected Public: Manufacturers and importers of cribs.

Estimated Number of Respondents: 78 firms supply full-size cribs with an estimated 11 models per firm; 24 firms supply non-full-size cribs with an estimated 4 models per firm.

Estimated Time per Response: 1 hour per model.

Total Estimated Annual Burden: 954 hours (78 firms × 11 models × 1 hours) + (24 firms × 4 models × 1 hour).

General Description of Collection: The Commission issued a safety standard for full-size cribs (16 CFR part 1219) and non-full-size cribs (16 CFR part 1220) in 2010. The standards impose requirements on manufacturers and importers of cribs concerning marking, labeling, and instructional literature. The information collection covered by this notice relates to the annual burden hours associated with the requirements for marking, labeling, and instructional literature.

Dated: February 27, 2014.
Todd A. Stevenson,
Secretary, Consumer Product Safety Commission.

[FR Doc. 2014-04727 Filed 3-3-14; 8:45 am]

BILLING CODE 6355-01-P